DEPARTMENT OF LABOR

Employment and Training Administration

[TA-W-59,889]

Kirin Cutting Service, Inc., San Francisco, CA; Notice of Termination of Investigation

Pursuant to Section 221 of the Trade Act of 1974, as amended, an investigation was initiated on August 11, 2006 in response to a petition filed on behalf of workers of Kirin Cutting Service, Inc., San Francisco, California.

The petition has been deemed invalid. Two of the three petitioners were separated from employment more than one-year prior to the date of the petition (August 11, 2006). Consequently, the investigation has been terminated.

Signed at Washington, DC, this 31st day of August 2006.
Linda G. Poole,
Certifying Officer, Division of Trade Adjustment Assistance.

[FR Doc. E6-15078 Filed 9-12-06; 8:45 am]

BILLING CODE 4510-30-P